DEPARTMENT OF AGRICULTURE

Submission for OMB Review; Comment Request

August 23, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: District of Columbia Plant Health Certificate.

OMB Control Number: 0579-0166.

Summary of Collection: The United States Department of Agriculture is responsible for preventing plant pests and noxious weeds from entering the United States, preventing the spread of pests and weeds not widely distributed in the United States and eradicating those imported pests and weeds when eradication is feasible. The Federal Plant Protection Act (7 U.S.C. 7701-7772) authorized the Secretary to carry out operations or measures to detect, eradicate, suppress, control, prevent, or retard the spread of plant pests. The Plant Protection and Quarantine (PPQ) of the Animal and Plant Health Inspection Service (APHIS) provides certification services for plant material moving interstate to assure States that the plants and plant products they are receiving from the District of Columbia are free of prohibited or otherwise regulated plant pests. APHIS will collect information using form PPQ 571 District of Columbia Plant Health Certificate.

Need and Use of the Information: APHIS will collect information using forms PPQ 571, to certify that the domestic plant or other plant material described by the shipper has been inspected according to appropriate procedures and that it is considered free from certain plant diseases, insects, or other pests, and is considered to conform with the requirements of the importing State. If the information is not collected, it would likely result in the interstate spread of damaging agricultural pests. Further entities in the District of Columbia would be unable to ship their products to other States, as other States require this certification.

Description of Respondents: Business or other for-profit; Not-for-profit institutions.

Number of Respondents: 2.

Frequency of Responses: Reporting: On occasion.

Total Burden Hours: 20.

Animal & Plant Health Inspection Service

Title: Restrictions on Importation of Live Poultry, Poultry Meat, and Other Poultry Products from Specified Regions.

OMB Control Number: 0579-0228.

Summary of Collection: Title 21 U.S.C. 117, Animal Industry Act of 1884, authorizes the Secretary to prevent, control and eliminate domestic diseases such as brucellosis, as well as to take actions to prevent and manage exotic diseases such as classical swine fever and other foreign animal diseases. Veterinary Services of the USDA's Animal and Plant Health Inspection Service (APHIS) is responsible for administering regulations intended to prevent the introduction of animal diseases into the United States. The regulations in 9 CFR part 94 allow the importation of poultry meat and products and live poultry from Argentina and the Mexican States of Campeche, Quintana Roo, and Yucatan under certain conditions. APHIS will collect information through the use of a certification statement that must be completed by Mexican veterinary authorities prior to export.

Need and Use of the Information: The information collected from the certificate will provide APHIS with critical information concerning the origin and history of the items destined for importation in the United States. Without the information APHIS' ability to ensure that poultry, poultry meat, or other poultry products from certain States within Mexico pose a minimal risk of introducing exotic Newcastle disease and other exotic animal diseases into the United States.

Description of Respondents: Federal Government.

Number of Respondents: 10.

Frequency of Responses: Reporting: On occasion.

Total Burden Hours: 100.

Ruth Brown,
Departmental Information Collection Clearance Officer.

[FR Doc. E7-17015 Filed 8-27-07; 8:45 am]

BILLING CODE 3410-34-P